DEPARTMENT OF THE INTERIOR

National Park Service

[NPS-WASO-NAGPRA-23294; PPWOCRADN0-PCU00RP14.R50000]

Notice of Inventory Completion: U.S. Department of the Interior, Bureau of Reclamation, Mid-Pacific Regional Office, Sacramento, CA

AGENCY: National Park Service, Department of the Interior.

ACTION: Notice.

SUMMARY: The U.S. Department of the Interior, Bureau of Reclamation (Reclamation), Mid-Pacific Regional Office, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Reclamation, Mid-Pacific Regional Office. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the U.S. Department of the Interior, Bureau of Reclamation, Mid-Pacific Regional Office, at the address in this notice by July 5, 2017.

ADDRESSES: Melanie Ryan, NAGPRA Specialist/Physical Anthropologist, Mid-Pacific Regional Office, Bureau of Reclamation, MP-153, 2800 Cottage Way, Sacramento, CA 95825, telephone (916) 978-5526, email emryan@usbr.gov.

SUPPLEMENTARY INFORMATION: Notice is here given in accordance with the Native American Graves Protection and Repatriation Act (NAGPRA), 25 U.S.C. 3003, of the completion of an inventory of human remains and associated funerary objects under the control of the U.S. Department of the Interior, Bureau of Reclamation, Mid-Pacific Regional Office, Sacramento, CA. The human remains and associated funerary objects were removed from lands managed by Reclamation, Mid-Pacific Regional Office, in Modoc County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by Reclamation, Mid-Pacific Regional Office, professional staff in consultation with representatives of the Klamath Tribes. The Klamath Tribes represent Klamath, Modoc, and Yahooskin Band of Snake Peoples.

History and Description of the Remains

In 1945, human remains representing, at minimum two individuals were removed from the Tule Lake Internment Camp site (CA-MOD-NL4) in Modoc County, CA, by Marvin Kaufmann Opler and donated to the University of California, Berkeley. Opler was an anthropologist, social psychologist, and community analyst who arrived at Tule Lake Internment Camp in May 1943. The human remains were found during the excavation of an irrigation ditch at the camp. No further details about the excavation or the archeological context of the human remains was recorded. The human remains were curated at the Phoebe Hearst Museum of Anthropology, University of California, Berkeley, CA.

Reclamation, Mid-Pacific Regional Office, became aware of these human remains on August 27, 2015, when an inquiry was made by the Klamath Tribes to Reclamation, Mid-Pacific Regional Office, regarding human remains and one funerary object from site CA-MOD-NL4. The human remains were confirmed to be under Reclamation, Mid-Pacific Regional Office, control on November 30, 2015, and the Phoebe Hearst Museum transferred the human remains and funerary objects to Reclamation, Mid-Pacific Regional Office, on December 22, 2015.

The human remains consist of one nearly complete adult female, approximately 30-40 years old and a few ribs and thoracic vertebra of one adult, age and sex indeterminate. No known individuals were identified. The two associated funerary objects are one bone tube and one bag of associated soil.

In consultation with the Klamath Tribes, Reclamation, Mid-Pacific Regional Office, determined a close affiliation with the Modoc, a Native American tribe who resided in northeast California and southeast Oregon during, and prior to, Euro-American contact. There is nothing temporally diagnostic available to directly indicate the antiquity of this collection. The Tule Lake Internment Center is located in the ancestral homelands of the Modoc Indians. Modoc territory extended across both sides of what is now the California-Oregon border immediately east of the Cascades. North and west of Modoc territory was the territory of the Klamath, who spoke a dialect of the same language. The western shore of Goose Lake was shared by the Modoc and the Yahooskin Paiute whose territory was to the east. The Klamath, Modoc, and Yahooskin band of Snake (Northern Paiute) Indians ceded lands in south-central Oregon to the United States under terms of the Klamath Treaty of 1864. By the terms of the treaty, all three Indian groups, who are now collectively known as the Klamath Tribes, retained a considerable portion of the Klamath homeland as a reservation.

The amount of wear on the dentition and the association of a bone tube indicates that the human remains are Native American. The associated bone tube was identified through consultation as part of a Modoc bone whistle. The Klamath Tribes presented an ancient Modoc bone whistle of the same form and construction as CA-MOD-NL4 bone tube.

On June 30, 1924, human remains representing, at minimum, one individual were removed from the Snake Island, Tule Lake site (CA-MOD-NL2) in Modoc County, CA, by Mr. Paul Fair of the U.S. Forest Service. Mr. Fair donated the items to the University of California, Berkeley, where they were curated by the Phoebe Hearst Museum. The one associated funerary object is “some bits of cordage.”

On December 8, 2015, the Klamath Tribes inquired about the human remains and associated funerary object from site CA-MOD-NL2. At that time, the human remains, consisting of a skull, had been misplaced by the museum and had not appeared on their annual inventory since the 1980s. The absence of the human remains prevented the identification of the human remains as Native American. On December 11, 2015, the associated funerary object was confirmed to be under the control of the Reclamation, Mid-Pacific Regional Office. The Phoebe Hearst Museum transferred it to Reclamation, Mid-Pacific Regional Office, on March 28, 2016.

Snake Island is located on the Bureau of Reclamation-withdrawn lands that were under control of Reclamation, Mid-Pacific Regional Office, in 1924. During consultation with the Klamath Tribes, Snake Island was identified to be the center of the Modoc world in a place referred to in their creation narrative. The Klamath Tribes provided examples of creation stories that identify Snake Island as an extraordinarily sacred location for Klamath and Modoc peoples. The first stitch of the matting/cordage was recognized by the Klamath Tribes as unique to the Modoc. During consultation, the Klamath Tribes provided several examples of Modoc woven items that were made using the same technique. This weaving technique is described in numerous ethnographies.

Determinations Made by the U.S. Department of the Interior, Bureau of Reclamation, Mid-Pacific Regional Office

Officials of Reclamation, Mid-Pacific Regional Office, have determined that:

• Pursuant to 25 U.S.C. 3001(9), the human remains described in this notice represent the physical remains of two individuals of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Klamath Tribes and The Modoc Tribe of Oklahoma.

Additional Requestors and Disposition

Lineal descendants or representatives of any Indian tribe or Native Hawaiian organization not identified in this notice that wish to request transfer of control of these human remains and associated funerary objects should submit a written request with information in support of the request to Melanie Ryan, NAGPRA Specialist/Physical Anthropologist, Mid-Pacific Regional Office, Bureau of Reclamation, MP-153, 2800 Cottage Way, Sacramento, CA 95825, telephone (916) 978-5526, email emryan@usbr.gov, by July 5, 2017. After that date, if no additional requestors have come forward, transfer of control of the human remains and associated funerary objects to the Klamath Tribes and The Modoc Tribe of Oklahoma may proceed.

The U.S. Department of the Interior, Bureau of Reclamation, Mid-Pacific Regional Office, is responsible for notifying the Klamath Tribes and The Modoc Tribe of Oklahoma that this notice has been published.

Dated: April 21, 2017.
Melanie O'Brien,
Manager, National NAGPRA Program.

[FR Doc. 2017-11540 Filed 6-2-17; 8:45 am]

BILLING CODE 4312-52-P